DEPARTMENT OF COMMERCE

National Oceanic and Atmospheric Administration

50 CFR Part 679

[Docket No. 000331092-0315-02; I.D. 030100F]

RIN 0648-AQ36

Fisheries of the Exclusive Economic Zone off Alaska; License Limitation Program for the Scallop Fishery; Correction

AGENCY: National Marine Fisheries Service (NMFS), National Oceanic and Atmospheric Administration (NOAA), Commerce.

ACTION: Final rule; correcting amendment.

SUMMARY: This action corrects part of the definition of “eligible applicant” in a final rule published December 14, 2000, to implement the License Limitation Program (LLP) for the Scallop Fishery. This action is necessary to correct paragraph (3) of the definition “eligible applicant” because it is inconsistent with regulations governing the LLP application requirements and the original intent of the LLP.

DATES: Effective August 27, 2002.

FOR FURTHER INFORMATION CONTACT: Patsy A. Bearden, 907-586-7008, or Patsy.Bearden@noaa.gov.

SUPPLEMENTARY INFORMATION: This action corrects paragraph (3) of the definition of “eligible applicant” for a crab species license. This paragraph is designed to implement part of the LLP for the crab fisheries in the Bering Sea and Aleutian Islands. A final rule to implement the initial crab LLP was published on October 1, 1998 (63 FR 52642). As published in this rule, paragraph (3) incorrectly included the word “and” between “1993” and “1994” in the “eligible applicant” definition. This error incorrectly made the conditions for a certain crab species license more restrictive than intended by the North Pacific Fishery Management Council and NMFS and inconsistent with crab species license criteria specified at § 679.4(k)(5)(ii)(G). NMFS corrected this error on September 12, 2000 (65 FR 54971) (LLP Correction).

Subsequently, NMFS issued a final rule on December 14, 2000 (65 FR 78110) (Scallop Final Rule) to implement Amendment 4 to the Fishery Management Plan for the Scallop Fishery off Alaska, which created an LLP for the scallop fishery. The scallop final rule added clarifying subheadings to the numbered paragraphs within the definition of “eligible applicant” and in the process, repeated the regulatory text of each paragraph. The regulatory text repeated for paragraph (3), however, was the original incorrect text published on October 1, 1998, for the crab LLP. This mistake likely occurred because, with respect to paragraph (3), the scallop final rule relied on the text of the proposed rule for the scallop LLP which was published on April 21, 2000 (65 FR 21385), before the text was corrected nearly five months later on September 12, 2000. Therefore, this action re-corrects paragraph (3) to read as originally intended and corrected to read on September 12, 2000.

Classification

The Assistant Administrator for Fisheries, NOAA, finds good cause to waive the requirement to provide prior notice and opportunity for public comment under authority set forth in 5 U.S.C. 553(b)(B). The rationale for this finding is that prior notice and comment are unnecessary under the Administrative Procedure Act because the correction of this paragraph will have no substantive effect on the regulated public. Prior notice and comment would be contrary to the public interest because it would prolong the inaccurate paragraph that currently exists in the regulations and that had been previously corrected in the September 12, 2000, notice.

List of Subjects in 50 CFR Part 679

Alaska, Fisheries, Recordkeeping and reporting requirements.

Dated: August 19, 2002.
William T. Hogarth,
Assistant Administrator for Fisheries, National Marine Fisheries Service.

For reasons explained in the preamble, 50 CFR part 679 is corrected by making the following correcting amendment:

PART 679—FISHERIES OF THE EXCLUSIVE ECONOMIC ZONE OFF ALASKA

1. The authority citation for part 679 continues to read as follows:

Authority: .S.C. 773 et seq., 1801 et seq.; 3631 et seq.; Title II of Division C, Pub. L. 105-277; Sec 3027, Pub. L. 106-31; 113 Stat. 57; 16 U.S.C. 1540(f); and Sec. 209, Pub. L. 106-554.

2. In § 679.2, paragraph (3) under the definition for “eligible applicant” is revised to read as follows:

§ 679.2 Definitions.

* * * * *

Eligible applicant* * *

* * * * *

(3) For a crab species license, who was an individual who held a State of Alaska permit for the Norton Sound king crab summer fishery at the time he or she made at least one harvest of red or blue king crab in the relevant area during the period specified in § 679.4(k)(5)(ii)(G), or a corporation that owned or leased a vessel on June 17, 1995, that made at least one harvest of red or blue king crab in the relevant area during the period in § 679.4(k)(5)(ii)(G), and that was operated by an individual who was an employee or a temporary contractor; or

* * * * *

[FR Doc. 02-21808 Filed 8-27-02; 8:45 am]

BILLING CODE 3510-22-S